DEPARTMENT OF THE INTERIOR

Bureau of Land Management

[UT-910-06-1040-PH-24-1A]

Notice of Utah Resource Advisory Council Meeting

AGENCY: Bureau of Land Management, Department of the Interior.

ACTION: Notice of Utah Resource Advisory Council (RAC) meeting.

SUMMARY: In accordance with the Federal Land Policy and Management Act (FLPMA) and the Federal Advisory Committee Act of 1972 (FACA), the U.S. Department of the Interior, Bureau of Land Management's (BLM) Utah Resource Advisory Council (RAC) will meet as indicated below.

DATES: The Utah Resource Advisory Council (RAC) will meet January 26, 2006, from 8:30 a.m. until 4 p.m., in Provo, Utah.

ADDRESSES: On January 26, the RAC will meet in the Centennial Conference Room at the Marriott Courtyard Hotel (1600 N. Freedom Blvd.) in Provo, Utah.

FOR FURTHER INFORMATION CONTACT: Sherry Foot, Special Programs Coordinator, Utah State Office, Bureau of Land Management, P.O. Box 45155, Salt Lake City, Utah 84145-0155; phone (801) 539-4195.

SUPPLEMENTARY INFORMATION: The Council will hold elections of officers, listen to a report from the RAC's Factory Butte Subgroup, be given an overview of “What's Happening in Utah,” and take part in a discussion on Senator Bennett's bill regarding OHV issues. A half-hour public comment period is scheduled to begin at 2:30 p.m. Written comments may be sent to the Bureau of Land Management address listed below. All meetings are open to the public; however, transportation, lodging, and meals are the responsibility of the participating public.

Dated: December 21, 2005.
James Kohler,
Acting State Director.

[FR Doc. E5-8074 Filed 12-29-05; 8:45 am]

BILLING CODE 4310-DK-P